DEPARTMENT OF TRANSPORTATION

Federal Highway Administration

Notice To Rescind Notice of Intent To Prepare an Environmental Impact Statement: Warren County, IA

AGENCY: Federal Highway Administration (FHWA), Iowa DOT, Warren County.

ACTION: Rescind notice of intent to prepare an environmental impact statement.

SUMMARY: The FHWA, Iowa DOT and Warren County are issuing this notice to advise the public that the NOI to prepare an environmental impact statement (EIS) for improvements for a proposed roadway project in Warren County, Iowa is being rescinded.

FOR FURTHER INFORMATION CONTACT: Michael La Pietra, Environment and Realty Manager, FHWA Iowa Division Office, 105 Sixth Street, Ames, IA 50010, Phone 515-233-7302; or James P. Rost, Director, Office of Location and Environment, Iowa Department of Transportation, 800 Lincoln Way, Ames, IA 50010, Phone 515-239-1798.

SUPPLEMENTARY INFORMATION:

Electronic Access

An electronic copy of this document is available for free download from the Federal Bulletin Board, (FBB). The FBB is a free electronic bulletin board service of the Superintendent of Documents, U.S. Government Printing Office (GPO).

The FBB may be accessed in four ways: (1) Via telephone in dial-up mode or via the Internet through (2) telnet, (3) FTP, and (4) the World Wide Web.

For dial-in mode a user needs a personal computer, modem, telecommunications software package and telephone line. A hard disk is recommended for file transfers.

For Internet access a user needs Internet connectivity. Users can telnet or FTP to: fedbbs.access.gpo.gov. Users can access the FBB via the World Wide Web at http://fedbbs.access.gpo.gov.

User assistance for the FBB is available from 7 a.m. until 5 p.m., Eastern Time, Monday through Friday (except federal holidays) by calling the GPO Office of Electronic Information Dissemination Services at 202-512-1530, toll-free at 888-293-6498; sending an e-mail to gpoaccess@gpo.gov; or sending a fax to 202-512-1262.

Access to this notice is also available to Internet users through the Federal Register's home page at http://www.nara.gov/fedreg.

Background

The FHWA, in cooperation with the Iowa Department of Transportation (Iowa DOT) and Warren County had a NOI published in the Federal Register on April 26, 2007 (Volume 72, Number 80) to complete an environmental impact statement for roadway improvements in Warren County, Iowa.

Due to issues pertaining to project need and scheduling, the above mentioned notice will be rescinded, and a study will be completed instead. Appropriate environmental documents will be completed in the future when and if the project proceeds.

(Catalog of Federal Domestic Assistance Program Number 20.205, Highway Planning and Construction. The regulations implementing Executive Order 12372 regarding intergovernmental consultation on Federal programs and activities apply to this program.)

Authority: 23 U.S.C. 315; 49 CFR 1.48.

Dated: July 29, 2010.
Lubin M. Quinones,
Division Administrator, FHWA. Iowa Division.

[FR Doc. 2010-19113 Filed 8-3-10; 8:45 am]

BILLING CODE 4910-22-P